FEDERAL MARITIME COMMISSION

Ocean Transportation Intermediary License; Reissuance of License;

Notice is hereby given that the following Ocean Transportation Intermediary license has been reissued by the Federal Maritime Commission pursuant to section 19 of the Shipping Act of 1984, as amended by OSRA 1998 (46 U.S.C. app. 1718) and the regulations of the Commission pertaining to the licensing of Ocean Transportation Intermediaries, 46 CFR 515.

License No. | Name/address | Date reissued
3706 | Chesapeake Bay Shipping and Warehousing, Inc., 3431 Benson Avenue, Suite E, Baltimore, MD 21227 | May 1, 1999.

Sandra L. Kusumoto,
Director, Bureau of Consumer Complaints and Licensing.

[FR Doc. 00-11715 Filed 5-9-00; 8:45 am]

BILLING CODE 6730-01-P